COMMISSION ON CIVIL RIGHTS

Agenda and Notice of Public Meeting of the Connecticut State Advisory Committee

Notice is hereby given, pursuant to the provisions of the rules and regulations of the U.S. Commission on Civil Rights, that a briefing of the Connecticut State Advisory Committee will convene at 12 p.m. and adjourn at 7 p.m. on Thursday, September 28, 2006 in Hearing Group Room 2C, located in the Legislative Building, 210 Capitol Ave., in Hartford, Connecticut. The purpose of the meeting is to hear from education experts and advocates about school choice and civil rights.

This briefing is open the public. Members of the public needing disability accommodations are asked to contact Barbara de La Viez of the Eastern Regional Office by Friday, September 22, 2006.

The meeting will be conducted pursuant to the provisions of the rules and regulations of the Commission.

Dated at Washington, DC, September 15, 2006.
Ivy L. Davis,
Acting Chief, Regional Programs Coordination Unit.

[FR Doc. 06-7865 Filed 9-21-06; 8:45 am]

BILLING CODE 6335-01-P